DEPARTMENT OF ENERGY

Federal Energy Regulatory Commission

[Project No. 2558-029]

Central Vermont Public Service Corporation; Notice of Application Ready for Environmental Analysis, Soliciting Motions To Intervene and Protests, and Soliciting Comments, Recommendations, Terms and Conditions, and Prescriptions

Take notice that the following hydroelectric application has been filed with the Commission and is available for public inspection.

a. Type of Application: New Major License.

b. Project No.: 2558-029.

c. Date filed: March 31, 2010, and amended on August 1, 2011.

d. Applicant: Central Vermont Public Service Corporation.

e. Name of Project: Otter Creek Hydroelectric Project.

f. Location: The existing project is located on Otter Creek in Addison and Rutland counties, Vermont. The project does not occupy federal lands.

g. Filed Pursuant to: Federal Power Act 16 U.S.C. 791(a)-825(r).

h. Applicant Contact: Mike Scarzello, Generation Asset Manager, Central Vermont Public Service Corporation, 77 Grove Street, Rutland, VT 05701; Telephone: (802) 747-5207.

i. FERC Contact: Aaron Liberty, (202) 502-6862, aaron.liberty@ferc.gov.

j. Deadline for filing motions to intervene and protests, comments, terms and conditions, recommendations, and prescriptions: 60 days from the issuance date of this notice; reply comments are due 105 days from the issuance date of this notice.

All documents may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

You may also register online at http://www.ferc.gov/docs-filing/esubscription.asp to be notified via email of new filings and issuances related to this or other pending projects. For assistance, contact FERC Online Support.

k. This application has been accepted for filing and is now ready for environmental analysis.

l. Project Description: The existing Otter Creek Project consists of three developments with a combined installed capacity of 18.279 megawatts (MW). The project produces an average annual generation of 67,258 megawatt-hours. The energy from the project will be used to serve Central Vermont's retail customers.

The Proctor development, located at river mile 64.2, consists of the following facilities: (1) An existing 13-foot-high, 128-foot-long dam with a 3-foot-high inflatable flashboard system; (2) an existing 95-acre reservoir with a storage capacity of 275 acre-feet at a normal maximum water surface elevation of 469.5 feet above mean sea level (msl); (3) a gated-forebay intake structure approximately 14 feet deep by 115 feet long with a maximum width of 48 feet; (4) two intakes with two penstocks: a 9-foot-diameter, 460-foot-long, riveted steel penstock that decreases to 8 feet in diameter, and a 7-foot-diameter, 500-foot-long, spiral welded steel penstock; (5) an original concrete and brick masonry powerhouse measuring 100 by 33 feet containing four vertical shaft turbines: three 750-kilowatt (kW) units and one 1,680-kW unit with a combined maximum hydraulic capacity of 565 cubic feet per second (cfs); (6) an additional steel structure measuring 28 by 48 feet attached to the original powerhouse containing one 3,000-kW vertical shaft unit with a maximum hydraulic capacity of 325 cfs; (7) generator leads; (8) two banks of 0.48/4.16-kilovolt (kV) single-phase transformers; (9) a 0.48/43.8-kV three winding transformer; and (10) appurtenant facilities.

The Beldens development, located at river mile 23, consists of the following facilities: (1) Two existing concrete dams on either side of a ledge/bedrock island with 2.5-foot-high wooden flashboards: a 15-foot-high, 56-foot-long dam (west) and a 24-foot-high, 57-foot-long dam (east); (2) an existing 22-acre reservoir with a storage capacity of 253 acre-feet at a normal maximum water surface elevation of 282.52 feet msl; (3) two intakes equipped with trashracks: a 79-foot-long intake and a 35-foot-long intake with a 95-foot-long sluiceway; (4) a 12-foot-diameter, 30-foot-long steel penstock that bifurcates into two 10-foot-diameter sections, each leading to an original powerhouse; (5) a 12-foot-diameter, 45-foot-long concrete penstock that leads to a newer powerhouse; (6) an original concrete and masonry powerhouse measuring 40 by 44 feet containing a 800-kW vertical shaft unit and 949-kW vertical shaft unit with combined maximum hydraulic capacity of 650 cfs; (7) a second, newer concrete powerhouse measuring 40 by 75 feet containing a 4,100-kW vertical shaft unit with a maximum hydraulic capacity of 1,350 cfs; (8) generator leads; (9) a 2.4/46-kV step-up transformer bank; and (10) appurtenant facilities.

The Huntington Falls development, located at river mile 21, consists of: (1) An existing 31-foot-high, 187-foot-long concrete dam with a 2.5-foot-high inflatable flashboard system; (2) an existing 23-acre reservoir with a storage capacity of 234 acre-feet at a normal maximum water surface elevation of 217.8 feet msl; (3) two intakes equipped with trashracks: a 40-foot-long intake and a 26-foot-long intake; (4) three penstocks: two 10-foot-diameter, 30-foot-long steel penstocks leading to an original powerhouse, and a 12-foot-diameter, 75-foot-long concrete penstock leading to a newer powerhouse; (5) an original brick masonry powerhouse measuring 42 by 60 feet containing a 600-kW vertical shaft unit and a 800-kW vertical shaft unit with a combined maximum hydraulic capacity of 660 cfs; (6) a second, newer powerhouse measuring 40 by 75 feet containing a 4,100-kW vertical shaft unit with a maximum hydraulic capacity of 1,350 cfs; (7) generator leads; (8) a 2.4/46-kV step-up transformer bank; and (9) appurtenant facilities.

Currently, the Proctor development operates in a modified run-of-river mode, with infrequent diversions at the direction of the Independent System Operator—New England, while the Beldens and Huntington Falls developments operate in a run-of-river mode. The Proctor development currently provides a continuous downstream minimum flow of 100 cfs or inflow to the development, whichever is less, with minimum flows from April through mid-June equal to at least 50 percent of project inflows. A bypassed reach minimum flow of 5 cfs is currently released at the Beldens development through an opening in the flashboards along the west dam. A bypassed reach minimum flow of 15 cfs is currently released at the Huntington Falls development via a minimum flow gate at the right abutment of the dam.

Central Vermont proposes several physical changes to existing project facilities at the Proctor and Huntington Falls developments. At the Proctor development, Central Vermont proposes to: (1) Realign the intake headworks, such that the existing structure and components (sluice gate, trashracks, and/or headgates) will be modified with the entrance widened and deepened to reduce significant head losses through the intake structure; (2) install a new runner at Unit 1; replace Units 2-4 with new turbines/generators; and install new electrical switchgear, breakers, controls, and relays, resulting in an increase in nameplate capacity from 6,930 kW to a preliminary estimated design of 9,402 kW, and an increase in the existing hydraulic capacity from 890 cfs to approximately 1,158 cfs; and (3) install a new trashrack with 2-inch clear bar spacing, oriented at 42.5 degrees to river flow.

At the Huntington Falls development, Central Vermont proposes to: (1) Upgrade Units 1 and 2, resulting in an increase in nameplate capacity from 5,500 kW to a preliminary estimated design of 6,344 kW, and an increase in the existing hydraulic capacity from 2,010 cfs to approximately 2,144 cfs; (2) install new switchgear, breakers, control, and relays; and (3) install a new trashrack for the Unit 3 intake that would have 3-inch clear bar spacing and be oriented at a 90 degree angle to river flow.

Central Vermont proposes operational changes to existing project operations at the Proctor development. Central Vermont proposes to eliminate the existing 4-foot drawdown of the reservoir surface, with the exception of infrequent emergency operations and maintenance, and to implement a cycling operation that would utilize a 1.5-foot drawdown/refill cycle between June 16 and March 31, provided that the existing downstream minimum flow requirement of 100 cfs is maintained during refill. Central Vermont also proposes to refrain from conducting reservoir drawdowns during the period of April 1 to June 15, when Proctor would be operated in a run-of-river mode. In addition, peaking constraints would be utilized under normal operations of no greater than a 4.5:1 ratio between maximum and minimum flow in a 24-hour period.

Central Vermont is also proposing to alter the existing bypassed reach minimum flows at the Proctor and Beldens developments. At the Proctor development, Central Vermont is proposing to provide a continuous bypassed reach minimum flow of 54 cfs, and to provide the remainder of the existing 100-cfs minimum tailrace flow through the powerhouse. At the Beldens development, Central Vermont is proposing to provide a 10-cfs minimum flow in both the east and west channels.

Central Vermont is also proposing the following environmental measures: (1) Improve and enhance the existing take-out for the canoe portage around the Beldens dam; and (2) formalize and enhance the tailwater access site at the Proctor development.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in Item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must: (1) Bear in all capital letters the title “PROTEST,” or “MOTION TO INTERVENE,” or “COMMENTS,” “REPLY COMMENTS,” RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon the representative of the applicant. A copy of all other filings must be accompanied by proof of service on all persons listed in the service list prepared by the Commission in this proceeding, in accordance with 18 CFR 4.34(b) and 385.2010.

o. A license applicant must file, no later than 60 days following the date of issuance of this notice: (1) A copy of the water quality certification; (2) a copy of the request for certification, including proof of the date on which the certifying agency received the request; or (3) evidence of waiver of water quality certification.

Dated: May 14, 2012.
Kimberly D. Bose,
Secretary.

[FR Doc. 2012-12069 Filed 5-17-12; 8:45 am]

BILLING CODE 6717-01-P